DEPARTMENT OF DEFENSE

Department of the Navy

Notice of Intent To Grant Exclusive Patent License; NanoComm Systems LLC

AGENCY: Department of the Navy, DoD.

ACTION: Notice.

SUMMARY: The Department of the Navy hereby gives notice of its intent to grant to NanoComm Systems LLC, a revocable, nonassignable, exclusive license to practice in the United States and certain foreign countries, the Government-owned inventions described in U.S. Patent Application No. 09/668,407: Multiple-Buffer Queuing of Data Packets with High Throughput Rate, Navy Case No. 84,834.//U.S. Patent Application No. 09/715,772: Multi-Thread Peripheral Processing Using Dedicated Peripheral Bus, Navy Case No. 84,781.//U.S. Patent Application No. 09/715,778: Prioritizing Resource Utilization in Multi-Thread Computing System, Navy Case No. 84,779.//U.S. Patent Application No. 09/833,578: System and Method for Data Forwarding in a Programmable Multiple Network, Navy Case No. 84,886.//U.S. Patent Application No. 09/833,580: System and Method for Instruction-Level Parallelism in a Programmable Network Processor Environment, Navy Case No. 84,888.//U.S. Patent Application No. 09/833,581: System and Method for Processing Overlapping Tasks in a Programmable Network Processor Environment, Navy Case No. 84,885.//U.S. Patent Application No. 09/859,150: Adaptive Control of Multiplexed Input Buffer Channels, Navy Case No. 84,831.//U.S. Patent Application No. 09/933,786: Shift Processing Unit, Navy Case No. 84,832 and any continuations, divisionals or re-issues thereof.

DATES: Anyone wishing to object to the grant of this license must file written objections along with supporting evidence, if any, not later than September 16, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Ave., SW., Washington, DC 20375-5320, telephone 202-767-3083. Due to U.S. Postal delays, please fax 202-404-7920, E-Mail: kuhl@utopia.nrl.navy.mil or use courier delivery to expedite response.

(Authority: 35 U.S.C. 207, 37 CFR Part 404.)

Dated: August 25, 2005.
I.C. Le Moyne Jr.,
Lieutenant, Judge Advocate General's Corps, U.S. Navy, Alternate Federal Register Liaison Officer.

[FR Doc. 05-17409 Filed 8-31-05; 8:45 am]

BILLING CODE 3810-FF-P